UNITED STATES INSTITUTE OF PEACE

Announcement of the Fall 2008 Annual Grant Competition (Formerly Known as the Unsolicited Grant Initiative); Effective October 1, 2008

AGENCY: United States Institute of Peace.

ACTION: Notice.

SUMMARY: The Agency announces its Annual Grant Competition, which offers support for research, education and training, and the dissemination of information on international peace and conflict resolution. The Annual Grant Competition is open to any project that falls within the Institute's broad mandate of international conflict resolution.

Deadline: October 1, 2008. Application material available on request and at http://www.usip.org/grants/unsolicited.html.

DATES: Receipt of Application: October 1, 2008.

Notification Date: March 31, 2009.

ADDRESSES: For Application Package: United States Institute of Peace, Grant Program, 1200 17th Street, NW., Suite 200, Washington, DC 20036-3011. (202) 429-3842 (phone). (202) 833-1018 (fax). (202) 457-1719 (TTY). E-mail: grants@usip.org.

FOR FURTHER INFORMATION CONTACT: The Grant Program, Annual Grant Competition, Phone (202) 429-3842, E-mail: grants@usip.org.

Dated: May 7, 2008.
Michael Graham,
Vice President for Administration.

[FR Doc. E8-10502 Filed 5-12-08; 8:45 am]

BILLING CODE 6820-AR-M